DEPARTMENT OF DEFENSE

Office of the Secretary

[Docket ID DoD-2021-OS-0125]

Submission for OMB Review; Comment Request

AGENCY: The Office of the Under Secretary of Defense for Personnel and Readiness (USD(P&R)), Department of Defense (DoD).

ACTION: 30-Day information collection notice.

SUMMARY: The Department of Defense has submitted to OMB for clearance the following proposal for collection of information under the provisions of the Paperwork Reduction Act.

DATES: Consideration will be given to all comments received by April 27, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Innovative Readiness Training Community Application; OMB Control Number 0704-0583.

Type of Request: Revision.

Number of Respondents: 100.

Responses per Respondent: 1.

Annual Responses: 100.

Average Burden per Response: 5.5 hours.

Annual Burden Hours: 550 hours.

Needs and Uses: This information collection is necessary to support the DoD's Innovative Readiness Training (IRT) program. Each year the military collects voluntary applications from communities to participate in IRT missions. Communities respond to the collection as they will have a chance to receive incidental support and services from the DoD during the conduct of the IRT mission and training. Currently the majority of missions are in the form of civil engineering projects or medical care. IRT, however, is not limited to this, and any application is considered for its potential training value and incidental community benefit. This information allows the best possible match between the community and military training requirements while ensuring each applicant is eligible to receive support and services under 10 U.S.C. 2012.

Affected Public: State, local, and tribal governments.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: March 22, 2022.
Aaron T. Siegel,
Alternate OSD Federal Register Liaison Officer, Department of Defense.

[FR Doc. 2022-06476 Filed 3-25-22; 8:45 am]

BILLING CODE 5001-06-P